DEPARTMENT OF AGRICULTURE

Forest Service

Recreation Resource Advisory Committees

AGENCY: Forest Service, USDA.

ACTION: Notice of intent to re-establish the Recreation Resource Advisory Committees and call for nominations.

SUMMARY: The Secretary of Agriculture (Secretary) intends to re-establish the charter for the Recreation Resource Advisory Committees (Recreation RACs) pursuant to Section 4 of the Federal Lands Recreation Enhancement Act, which passed into law as part of the 2005 Consolidated Appropriations Act (Pub. L. 108-447) on December 8, 2004. The Recreation RACs operates in compliance with the Federal Advisory Committee Act (FACA) (Pub. L. 92-463) and functions in the Pacific Northwest, Pacific Southwest, Eastern, Southern Regions of the Forest Service and the State of Colorado. The purpose of the Recreation RACs is to provide advice and recommendations on recreation fees to both the Forest Service and the Bureau of Land Management (BLM) as appropriate. The Secretary has determined that the work of the Recreation RACs is in the public interest and relevant to the duties of the Department of Agriculture. Therefore, the Secretary continuously seeks nominations to fill vacancies on the Recreation RACs. Additional information concerning the Recreation RACs can be found by visiting the Recreation RACs Web site at: http://www.fs.fed.us/passespermits/rrac-org-links.shtml.

DATES: Nominations must be received on or before July 27, 2015. Nominations must contain a completed application packet that includes the nominee's name, resume, and completed Form AD-755, Advisory Committee or Research and Promotion Background Information. The packages must be sent to the addresses below.

ADDRESSES: Regional Forest Contacts for the Recreation Resource Advisory Committees (Recreation RACs):

Eastern Region Recreation RAC: Joanna Wilson, Recreation Fee Coordinator, 626 East Wisconsin Avenue, Milwaukee, Wisconsin 53202, or by phone at (414) 297-3295.

Southern Region Recreation RAC: Alison Koopman, Recreation Fee Coordinator, 1720 Peachtree Road NW., Atlanta, Georgia 30309, or by phone at (404) 347-2769.

Pacific Northwest Region Recreation RAC: Jocelyn Biro, Recreation Fee Coordinator, 333 SW First Avenue, Portland, Oregon 97204, or by phone at (503) 808-2411.

Pacific Southwest Region Recreation RAC: Ramiro Villalvazo, Recreation Director, 1323 Club Drive, Vallejo, California 94592, or by phone at (707) 562-8856.

Colorado Recreation RAC: Paul Cruz, Recreation Fee Coordinator, 740 Simms Street, Golden, Colorado 80401, or by phone at (303) 275-5043.

FOR FURTHER INFORMATION CONTACT: Julie Cox, Recreation RAC Coordinator, Pacific Northwest Region, USDA Forest Service, 620 SW Main Street, Suite 334, Portland, Oregon 97205; or by phone at (503) 808-2984, or by email at jacox@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

The Federal Lands Recreation Enhancement Act (REA), signed in December 2004, directs the Secretary of Agriculture, the Secretary of the Interior, or both to establish Recreation RACs, or use existing advisory committees to perform the duties of Recreation RACs, in each State or region for Federal recreation lands and waters managed by the Forest Service or the BLM. These committees make recreation fee program recommendations on implementing or eliminating standard amenity fees; expanded amenity fees; and noncommercial, individual special recreation permit fees; expanding or limiting the recreation fee program; and fee-level changes. The REA grants flexibility to Recreation RACs by stating that the Secretaries:

• May have as many additional Recreation RACs in a State or region as the Secretaries consider necessary;

• Shall not establish a Recreation RAC in a State if the Secretaries determine, in consultation with the Governor of the State, that sufficient interest does not exist to ensure that participation on the committee is balanced in terms of the points of view represented and the functions to be performed; or

• May use a resource advisory committee established pursuant to another provision of law and in accordance with that law.

The Forest Service and BLM elected to jointly use existing BLM RACs in the states of Arizona, Idaho, the Dakotas, Montana, Nevada, New Mexico, and Utah. The Forest Service also manages Recreation RACs for the Forest Service Pacific Northwest, Pacific Southwest, Eastern and Southern Regions and for the State of Colorado. The Forest Service is using an existing advisory board for the Black Hills National Forest in South Dakota. In addition, the Governors of three states—Alaska, Nebraska and Wyoming—requested that their states be exempt from the Recreation RAC requirement, and the Secretary concurred with the exemptions.

Recreation RACs Membership

The Recreation RACs consists of not more than 11 members. The members appointed to the Recreation RACs will be fairly balanced in terms of points of view represented, functions to be performed, and will represent a broad array of expertise and relevancy to a membership category. The Recreation RACs composition is as follow:

(1) Five persons who represent recreation users and that include, as appropriate, persons representing—

(a) Winter motorized recreation such as snowmobiling;

(b) Winter nonmotorized recreation such as snowshoeing, cross-country and downhill skiing, and snowboarding;

(c) Summer motorized recreation such as motorcycling, boating, and off-highway vehicle driving;

(d) Summer nonmotorized recreation such as backpacking, horseback riding, mountain biking, canoeing, and rafting; and

(e) Hunting and fishing.

(2) Three persons who represent interest groups that include, as appropriate—

(a) Motorized outfitters and guides;

(b) Nonmotorized outfitters and guides; and

(c) Local environmental groups.

(3) Three persons who are—

(a) State tourism official representing the State;

(b) A representative of affected Indian tribes; and

(c) A representative of affected local government interests.

In the event a vacancy arises, the Secretary may appointment replacements for members in each of the three membership categories. If an appropriate replacement is unavailable, nominees will be sough through an open and public process and submitted to the Secretary for vetting, approval, and appointment. The Chairperson, of each Recreation RAC, shall be selected by majority vote of the Recreation RAC from among its members for a period of time as determined by the Recreation RAC. A Co-Chairperson may be assigned, especially to facilitate his or her transition to become the Chairperson in the future. The Forest Service Regional Foresters or designee for each identified Recreation RAC shall serve as the Designated Federal Official (DFO) under Sections 10(e) and (f) of FACA.

The Recreation RACs members serve 3-year terms and shall reside within the Region(s) and State in which the committee is organized.

Nominations and Application Information for the Recreation RACs

The appointment of members to the Recreation RACs will be made by the Secretary of Agriculture. Any individual or organization may nominate one or more qualified persons to represent the vacancies listed above. To be considered for membership, nominees must—

1. Identify what vacancy they would represent and how they are qualified to represent that vacancy;

2. State why they want to serve on the committee and what they can contribute;

3. Show their past experience in working successfully as part of a working group on forest management activities;

4. Complete Form AD-755, you may contact the persons above or from the following Web site: http://www.usda.gov/documents/OCIO_AD_755_Master_2012.pdf. All nominations will be vetted, by the Agency.

Equal opportunity practices, in line with USDA policies, will be followed in all appointments to the Recreation RACs. To ensure that the recommendations of the Recreation RACs have taken into account the needs of the diverse groups served by the Departments, membership should include, to the extent practicable, individuals with demonstrated ability to represent all racial and ethnic groups, women and men, and persons with disabilities.

Dated: May 28, 2015.
Malcolm A. Shorter,
Deputy Assistant Secretary For Administration.

[FR Doc. 2015-14147 Filed 6-9-15; 8:45 am]

BILLING CODE 3411-15-P